DEPARTMENT OF AGRICULTURE

Grain Inspection, Packers and Stockyards Administration

[02-b]

Cancellation of Oregon's Designation, Request for Comments on the Need for Official Service in Oregon, and the Opportunity for Designation in the Oregon Area

AGENCY: Grain Inspection, Packers and Stockyards Administration, USDA.

ACTION: Notice.

SUMMARY: The United States Grain Standards Act, as amended (Act), provides that official agency designations will end not later than triennially and may be renewed. The Oregon Department of Agriculture (Oregon), is designated to provide official inspection services until June 30, 2005, according to the Act. Oregon informed Grain Inspection, Packers and Stockyards Administration (GIPSA) that they will cease providing official inspection effective November 27, 2002. Accordingly, GIPSA is announcing that Oregon's designation terminates effective November 27, 2002. GIPSA is also asking for comments on the need for service in the area, and asking for applicants for service in the area.

DATES: Applications and comments must be postmarked or electonically dated on or before December 23, 2002.

ADDRESSES: Submit applications and comments to USDA, GIPSA, Janet M. Hart, Chief, Review Branch, Compliance Division, STOP 3604, room 1647-S, 1400 Independence Ave. SW., Washington, DC 20250-3604; FAX 202-690-2755; e-mail Janet.M.Hart@usda.gov.

FOR FURTHER INFORMATION CONTACT: Janet M. Hart at 202-720-8525, e-mail Janet.M.Hart@usda.gov.

SUPPLEMENTARY INFORMATION: This action has been reviewed and determined not to be a rule or regulation as defined in Executive Order 12866 and Departmental Regulation 1512-1; therefore, the Executive Order and Departmental Regulation do not apply to this action.

Section 7(f)(1) of the Act authorizes GIPSA' Administrator to designate a qualified applicant to provide official services in a specified area after determining that the applicant is better able than any other applicant to provide such official services. GIPSA designated Oregon, main office in Salem, Oregon, to provide official inspection services under the Act on July 1, 2002.

Section 7(g)(1) of the Act provides that designations of official agencies will end not later than triennially and may be renewed according to the criteria and procedures prescribed in Section 7(f) of the Act. The designation of Oregon ends on June 30, 2005, according to the Act. However, Oregon advised GIPSA that they will close their sole specified service point in Pendleton, Oregon, on November 27, 2002. Accordingly, GIPSA is canceling Oregon's designation effective November 27, 2002, asking for comments on the need for official service in Oregon, and asking for applicants to provide service. GIPSA will select an applicant for service only if there is a demonstrated need.

Pursuant to Section 7(f)(2) of the Act, the following geographic area is open for designation; the entire State of Oregon, except those export port locations within the State which are serviced by GIPSA. Interested persons are hereby given the opportunity to apply for designation to provide official services in the geographic areas specified above under provisions of Section 7(f) of the Act and section 800.196(d) of the regulations issued thereunder. Persons wishing to apply for designation should contact the Compliance Division at the address listed above for forms and information, or obtain applications at the GIPSA Web site, http://www.usda.gov/gipsa/oversight/parovreg.htm.

Any firms in Oregon that require official service after November 27, 2002 should contact GIPSA's Portland Field Office at 503-326-7887.

Authority: Pub. L. 94-582, 90 Stat. 2867, as amended (7 U.S.C. 71 et seq.).

Dated: November 6, 2002.
Donna Reifschneider,
Administrator, Grain Inspection, Packers and Stockyards Administration.

[FR Doc. 02-29756 Filed 11-21-02; 8:45 am]

BILLING CODE 3410-EN-P